DEPARTMENT OF VETERANS AFFAIRS

[OMB Control No. 2900-0768]

Agency Information Collection Activity: Joint Application for Comprehensive Assistance and Support Services for Family Caregivers

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before July 22, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0768” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Joint Application for Comprehensive Assistance and Support Services for Family Caregivers, VA Form 10-10CG.

OMB Control Number: 2900-0768.

Type of Review: Reinstatement with change of a previously approved collection.

Abstract: Public Law (Pub. L.) 111-163, Caregivers and Veterans Omnibus Health Services Act of 2010 amended title 38 United States Code chapter 17 by adding a new section, 1720G, “Assistance and Support Services for Caregivers.” Section 1720G requires the Department of Veterans Affairs (VA) to develop a Program of Comprehensive Assistance and Support Services for Family Caregivers. Under the law, primary family caregivers may be eligible to receive a stipend, access to health care coverage, mental health counseling, comprehensive caregiver education and training and expanded respite services. Caregivers also may be eligible for travel benefits when they accompany the Veteran for care or attending training. In order to administer these benefits to caregivers, it is necessary that the VA receive information about the nature of benefit being sought and the persons who will be serving as caregivers and receiving benefits. The information collected will be used to determine if a post-9/11 Veteran or active duty service member undergoing medical discharge qualifies for Caregiver Support Services and whether the individuals designated to serve as primary or secondary family caregivers meet VA's criteria for these roles.

Affected Public: Individuals and households.

Estimated Annual Burden: 4,125 hours.

Estimated Average Burden per Respondent: 15 minutes.

Frequency of Response: On occasion.

Estimated Number of Respondents: 16,500.

By direction of the Secretary.
Danny S. Green,
Interim VA Clearance Officer, Office of Quality, Performance and Risk (OQPR), Department of Veterans Affairs.

[FR Doc. 2019-10617 Filed 5-21-19; 8:45 am]

BILLING CODE 8320-01-P